DEPARTMENT OF AGRICULTURE

Forest Service

Caribou-Targheee National Forest, Teton County, ID; Big Hole Timber Sale

AGENCY: Forest Service, USDA.

ACTION: Cancellation of the Notice of Intent to prepare an Environmental Impact Statement for the Big Hole Timer Sale, as published in the Federal Register pages 39728 to 39729 on August 1, 2001 (Vol. 66, No. 148).

SUMMARY: The USDA, Forest Service has determined that it will not prepare an Environmental Impact Statement to document the analysis and disclose the environmental impacts of the Big Hole Timber Sale located on the Teton Basin Ranger District. In response to the final disposition of the Roadless Area Conservation Rule (Agriculture Secretary Ann M. Veneman, June 9, 2003), the proposed fuel reduction treatments in urban interface that are within the boundary of the Garns Mountain Roadless Area will no longer be considered.

Dated: September 17, 2003.
Jerry B. Reese,
Caribou-Targhee National Forest Supervisor.

[FR Doc. 03-24270 Filed 9-24-03; 8:45 am]

BILLING CODE 3410-11-M